DEPARTMENT OF STATE

[Public Notice 3714]

Bureau of Educational and Cultural Affairs Request for Grant Proposals: Education for Development and Democracy: U.S.-Africa Governance Partnerships

Summary

The Near East/South Asia/Africa Division of the Office of Citizen Exchanges, of the Bureau of Educational and Cultural Affairs (ECA) announces an open competition to build and strengthen U.S.-Africa partnerships in the government sector. U.S.-based public and private non-profit organizations meeting the provisions described in IRS regulation 26 CFR 1.501(c) may submit proposals to conduct international exchange programs. Grants are subject to the availability of funds under the Education for Development and Democracy Initiative.

Please note: Proposals for civil society, professional and business linkages will not be considered under this competition.

Programs and projects must comply with Bureau requirements and guidelines outlined in the Solicitation Package: this includes the Request for Grant Proposals (RFGP) and the Proposal Submission Instructions (PSI).

Announcement Title and Number

All communications with the Bureau concerning this Request for Grant Proposal (RFGP) should refer to the announcement title “Education for Development and Democracy: U.S.-Africa Governance Partnerships” and reference number ECA/PE/C/NEA-AF-02-08.

Overview

The Bureau welcomes proposals for governance partnerships linking U.S. professionals with judicial, executive and legislative institutions in Africa to strengthen their effective, accountable, and transparent service to the public. The partnership concept is emphasized as a mutually beneficial, direct and efficient method of promoting education, democracy, and free market economics. Partnerships promote the interests and long-term commitment of African and American participants going beyond U.S. government financing. Partnerships also help to establish a strong network of counterpart institutions in the U.S. and Africa, which invigorate and inform each other, enable collaborations and joint projects, and promote the exchange of information and resources.

Education for Development and Democracy Initiative (EDDI)

EDDI is an African-led development program with special emphasis on girls and women, concentrating on improving the quality and access to education; enhancing the availability of technology; and increasing citizen participation in government to accelerate Africa's integration into the world community of free-market democracies. In addition to governance projects, it promotes sustainable partnerships among African education and democracy organizations and between them and their sister organizations in the United States to educate children, involve communities, implement new business modes, and extend quality educational services.

Guidelines

Proposals for governance partnerships should include a bi-lateral, multi-phase, integrated approach to program activities, which build sequentially from exploratory work to cooperative action plans and concrete outcomes. The Office of Citizen Exchanges encourages applicants to be creative in planning project activities. Proposals should include practical, hands-on, community-based initiatives, designed to achieve concrete objectives in the field. The proposal should not focus on theoretical/academic workshops, seminars, studies or research.

In an effort to increase mutual understanding and build long-lasting linkages between our countries, proposals should include, to the fullest extent possible, equal numbers of American and African participants in international travel. In addition, applicants are encouraged to include American participants who are new to international exchanges and/or to the target countries.

The Bureau encourages applicants to consider carefully the choice of target countries. In order to prevent duplication of effort, applicants should research the work of development agencies (such as USAID, UN agencies) on the target themes, and select countries for which there has been limited investment on the issue. Applicants are welcome to contact the Public Affairs Sections (PAS) in U.S. Embassies in Africa, and the Office of Citizen Exchanges, to discuss proposed activities and their relevance to mission priorities.

Applicants may design single-country or multiple-country projects. The Bureau offers the following programming ideas and suggestions.

Judicial Reform and the Administration of Justice

A well-trained, independent judiciary is fundamental to a democratic political and social system. The judiciary must be protected from political interference in legal proceedings and public perception of unequal and unfair treatment before the bench of women, members of ethnic minority communities, and the poor. Even well qualified and well-intentioned judges are obstructed in their efforts to deliver justice by case backlog, by procedural delay, and by insufficient authority to exercise judicial discretion in court management. It is important that judges of both lower and higher courts be introduced to the principles and practices of U.S. jurisprudence and that such fundamental procedures as alternative dispute resolution, early neutral evaluation, case management, plea bargaining, continuous trial proceedings, and arbitration/mediation be familiar to them. The Bureau invites proposals that strengthen the integrity of the judicial process, and that consequently build public confidence in the ability of the judicial process to deliver justice.

Legislative Research and Legislative Drafting

In many countries of Sub-Saharan Africa, newly elected legislators take office with little practical experience to prepare them in writing new laws. There are “infant” drafting programs at a few South African universities (Pretoria, Stellenbosch), but more help is needed in South Africa and throughout the region. Legislators, however, do not work on their own; the breadth, depth and utility of the laws they write are dependent on the input from aides or researchers who search for models or “best practices” from elsewhere. We believe programs meant to help both legislators and legislative researchers would be useful. A program aimed at legislators could bring in experts to work with local universities, organizations or government institutions in developing legislative-training programs. If neighboring posts are interested, they could send academic or “political” participants to drafting workshops held in the host country. ECA also welcomes proposals with a focus on training legislative researchers. Participants would be trained for 3-4 months performing research and policy analysis. Participants may include employees of foreign governments, employees of political parties, or university students.

Legislative Management

The Bureau invites proposals with the purpose of promoting and improving the effectiveness of African legislatures through development of procedural and organizational options and opportunities, which serve themselves, the public, and other elements of government. These proposals might address matters such as staff organization and management, public accessibility and accountability, constituent relations, public information and media relations, and enhancing transparency of the legislative process. Also of interest are proposals that explore the impact of legislation on national and state budgets or address the role of legislatures in fiscal and programmatic oversight.

Local Government Administration

The Bureau is interested in programs that will enhance management skills of local government officials and administrators. Applicants must demonstrate expertise and knowledge of the political landscape and how the system of local government functions in the target country or countries. Programs may include a combination of U.S.-based internships, in-country workshops, roundtables, panel discussions, case studies and specially tailored projects. Suggested topics include accountability to and communication with constituencies; relationship with provincial and national governments; fiscal management; working with the press; negotiation skills and conflict resolution; consensus building; coalition building (particularly related to bloc or partisan communications); ethics in government; working with diverse populations; conducting issue-related casework; drafting legislation and implementing policy; promoting public participation in local government decision making.

Program activities for the above-listed themes may include:

1. A U.S.-based program that includes: Orientation to program purposes and to U.S. society; study tour/site visits; professional internships/placements; interaction and dialogue; hands-on training; professional development; and action plan development.

2. Capacity-building/training-of-trainer (TOT) workshops in Africa to help participants to identify priorities, create work plans, strengthen professional and volunteer skills, share their experience to committed people within each country, and become active in a practical and valuable way.

3. Site visits by U.S. facilitators/experts to monitor projects in the region and to provide additional training and consultations as needed.

4. Content-based Internet training/ cyber-training to encourage citizen participation in workshops, fora, chats, and/or discussions via the Internet that will stimulate communication and information sharing among key opinion leaders on priority topics. Internet and Cyber Training should be only one component of an overall program, not the main focus of the proposal.

Additional Guidance

Content-Based Internet Training: As noted above, the Bureau encourages applicants to use the Internet to assist African counterparts in networking, communicating and organizing on the above-listed priority issues. Proposals that include content-based Internet training must reflect knowledge of the opportunities and obstacles that exist for use of information technologies in the target country or countries, and, if needed, provide hardware, software and servers, preferably as a form of cost sharing. Internet and Cyber Training should be only one component of an overall program, not the main focus of the proposal.

In-Country Partners: Applicants should identify the U.S. and African partner organizations and individuals with whom they are proposing to collaborate. Specific information about the African partners' activities and accomplishments is required and should be included in the section on “Institutional Capacity.” Resumes for individuals mentioned in the proposal should be included, including proposed U.S. and African staff, trainers, consultants, etc.

Multiplier Effect/Impact: Programs should be designed so that the sharing of information and training that occurs during the grant period will continue long after the grant period is over. Proven methods of sustainability include, but are not limited to: a model TOT program that would include initial training, practice presentation sessions for the African participants, followed by training activities coordinated and implemented by the African participants in their home countries; a commitment to create or support in-country training/resource centers; a curriculum program that would include teacher training, lesson plan development, and cooperation with ministries of education and related education administrators on implementation; development of online communities, professional networks or professional associations; regularly published electronic and/or hard-copy newsletters.

Evaluation: Short- and long-term evaluation is critical to the success of any professional development program. In accordance with the Government Performance and Results Act (GPRA) of 1993, Federal Agencies must create strategic plans, set performance goals, and develop methods for measuring how well the goals of this program are realized. The grantee would be required to work closely with the Bureau to fulfill this responsibility. Applicants are asked to submit an evaluation plan that would address the GPRA requirements and assess the long-term impact and effectiveness of this program. The evaluation plan should include a summation of goals and results desired, and an indication of what types of information would be used to determine if these goals were met or results achieved, as well as a description of how the applicant would gather and evaluate this information. Please include with the proposal any evaluation tools (survey/focus group questions) that would be used as part of the overall plan.

Selection of Participants

To be competitive, proposals should include a description of an open, merit-based participant selection process, including advertising, recruitment and selection. A sample application should be submitted with the proposal. Applicants should expect to carry out the entire selection process, but the Bureau and the Public Affairs Sections of the U.S. Embassies abroad should be consulted. The Bureau and the U.S. Embassies retain the right to nominate participants and to approve or reject participants recommended by the grantee institution. Priority must be given to foreign participants who have not traveled to the United States. ECA encourages applicants to design programs for non-English speakers, as appropriate. The Bureau is particularly interested in projects that focus on or include persons with disabilities in any of the above-listed themes. Please refer to the sections on “Budget Guidelines” and “Review Criteria” for additional information.

Visa Regulations

Foreign participants on programs sponsored by The Bureau are granted J-1 Exchange Visitor visas by the U.S. Embassy in the sending country. All programs must comply with J-1 visa regulations. Please refer to the Proposal Submission Instructions (PSI) for further information.

Public Affairs Section (PAS) Involvement

The Public Affairs Sections of the U.S. Embassies (formerly known as USIS posts) play a key role throughout every phase of project development. Posts evaluate project proposals; coordinate planning with the grantee organization and in-country partners; facilitate in-country activities; nominate participants and vet grantee nominations; observe in-country activities; debrief participants; and evaluate project impact. Posts are responsible for issuing IAP-66 forms in order for overseas participants to obtain necessary J-1 visas for entry to the United States. They also serve as a link to in-country partners and participants.

Project administration and implementation are the responsibility of grantee. The grantee must inform the PAS in participating countries of its operations and procedures and coordinate with and involve PAS officers in the development of project activities. The PAS should be consulted regarding country priorities, current security issues, and related logistical and programmatic issues.

Budget Guidelines

A total of $835,000 will be available to support multiple grant awards. The funding available under this competition will be disbursed through grants to several organizations. Although no funding limit exists, organizations are strongly encouraged to submit proposals that do not exceed $225,000. Proposals that do not exceed $225,000 will be given priority. Organizations with less than four years of experience in managing international exchange programs are limited to $60,000.

The Bureau encourages applicants to provide maximum levels of cost sharing and funding from private sources in support of its programs.

Applicants are strongly encouraged to consult with African partners in the design of the proposal budget. Competitive proposals will demonstrate a thorough and realistic understanding of the costs for in-country administration, communication, transportation, per diem, etc.

Format: Applicants must submit a comprehensive line item budget based on the model in the Proposal Submission Instructions, but are encouraged to provide the optional separate sub-budgets for each program component, location or activity in order to facilitate decisions on funding. Applicants should include a budget narrative or budget notes for clarification of each line item.

Cost sharing: Since the Bureau's grant assistance constitutes only a portion of total project funding, proposals should list and provide evidence of other sources of cost sharing, including financial and in-kind support. Proposals with substantial private sector support from foundations, corporations, and other institutions will be considered highly competitive. Please refer to the statement on cost sharing in the Proposal Submission Instructions.

The following program costs are eligible for funding consideration:

1. Transportation. International and domestic airfares (per the Fly America Act), transit costs, ground transportation costs, and visas for U.S. participants to travel to African countries (visas for African participants to travel to the U.S. for travel funded by the Bureau's grant assistance are issued at no charge).

2. Per Diem. For U.S.-based programming, organizations should use the published Federal per diem rates for individual U.S. cities. For activities in Africa, the Bureau strongly encourages applicants to budget realistic costs that reflect the local economy. Domestic and foreign per diem rates may be accessed at: http://www.policyworks.gov/. Applicants may opt to provide “home-stay” accommodations as a way to reduce per diems costs and as a way to enhance cross-cultural understanding.

3. Interpreters. Local interpreters with adequate skills and experience may be used for program activities. Typically, one interpreter is provided for every four visitors who require interpreting, with a minimum of two interpreters. The Bureau grants do not pay for foreign interpreters to accompany delegations from their home country. Salary costs for local interpreters must be included in the budget. Costs associated with using their services may not exceed rates for U.S. Department of State interpreters. The Bureau strongly encourages applicants to use local interpreters. U.S. Department of State Interpreters may be used for highly technical programs with the approval of the Office of Citizen Exchanges. Proposal budgets should contain a flat $170/day per diem for each U.S. Department of State interpreter, as well as home-program-home air transportation of $400 per interpreter, reimbursements for taxi fares, plus any other transportation expenses during the program. Salary expenses are covered centrally and should not be part of an applicant's proposed budget.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Subcontracts should be itemized in the budget.

6. Room rental. Room rental may not exceed $250 per day.

7. Materials development. Proposals may contain costs to purchase, develop and translate materials for participants. The Bureau strongly discourages the use of automatic translation software for the preparation of training materials or any information distributed to the group of participants or network of organizations. Costs for good-quality translation of materials should be anticipated and included in the budget. Grantee organizations should expect to submit a copy of all program materials to the Bureau.

8. Equipment. Proposals may contain costs to purchase equipment for Africa-based programming such as computers, fax machines and copy machines. Please note, however, that the Bureau encourages cost sharing for these expenses. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant should be included in the budget. The allowance may be used for incidental expenses incurred during international travel.

11. Health Insurance. Foreign participants will be covered under the terms of a Bureau-sponsored health insurance policy. The premium is paid by the Bureau directly to the insurance company. Applicants are permitted to include costs for travel insurance for U.S. participants in the budget.

12. Administrative Costs. Costs necessary for the effective administration of the program may include salaries for grantee organization employees, benefits, and other direct and indirect costs per detailed instructions in the PSI. Applicants are encouraged to provide administrative costs for African partner organizations to cover their in-country costs. While there is no rigid ratio of administrative to program costs, priority will be given to proposals whose administrative costs are less than twenty-five (25) per cent of the total requested from the Bureau. Proposals should show strong administrative cost-sharing contributions from the applicant, the African partner and other sources.

Please refer to the Proposal Submission Instructions (PSI) for complete budget guidelines.

Review Criteria

Technically eligible applications will be competitively reviewed according to the criteria stated below. These criteria are not rank ordered, and all are important in the proposal evaluation:

1. Program Planning and Ability to Achieve Objectives: Program objectives should be stated clearly and precisely and should reflect the applicant's expertise in the subject area and the region. Objectives should respond to the priority topics in this announcement, clearly meet the strategic objectives of EDDI, and relate to the current conditions in the target country or countries. Objectives should be reasonable, attainable, and tied to the anticipated outcomes of the project. A detailed work plan should explain step-by-step how objectives would be achieved and should include a timetable for completion of major tasks. The substance of project planning, orientation sessions, workshops, presentations, consultations, site visits and seed/sub-grant projects should be included as attachments (i.e. sample agendas, draft applications, etc.). Responsibilities of U.S. and in-country partners should be clearly described.

2. Institutional Capacity: The proposal should include: (1) The U.S. institution's mission and date of establishment; (2) detailed information about the capacity of any partner institutions, and the history of the partnership(s); (3) an outline of prior awards—U.S. government and private support received for the target theme/region; and (4) descriptions of experienced staff members and other resource persons who would implement the program. Proposed personnel and institutional resources should be adequate and appropriate to achieve the program's goals. The narrative should demonstrate proven ability to handle logistics. The proposal should reflect the institution's expertise in the subject area and knowledge of the conditions in the target country/region(s). Specific information about the African partners' activities and accomplishments is required and should be included in the section on “Institutional Capacity.” Resumes for individuals mentioned in the proposal should be included, including proposed U.S. and African staff, trainers, consultants, etc.

3. Cost Effectiveness and Cost Sharing: Overhead and administrative costs for the proposal, including salaries, honoraria and subcontracts for services, should be kept to a minimum. Applicants are encouraged to cost share a portion of overhead and administrative expenses. Cost sharing, including contributions from the applicant, U.S. or African partners, and other sources, should be included in the budget. Although no minimum cost sharing is stipulated in this competition, previous grantees have routinely covered more than 20 percent of total project costs.

4. Program Evaluation: The proposal must include a plan and methodology to evaluate the program's successes, both as activities unfold and at the program's conclusion. ECA recommends that the proposal include a draft survey questionnaire or other technique (such as a series of questions for a focus group) to link outcomes to original program objectives. The evaluation plan should include a summation of goals and results desired, and an indication of what types of information would be used to determine if these goals were met or results achieved, as well as a description of how the applicant would gather and evaluate this information. Please include with the proposal any evaluation tools (survey/focus group questions) that would be used as part of the overall plan.

5. Multiplier Effect/Impact: The proposal should show how the program would strengthen long-term mutual understanding and institutionalization of program objectives. Applicants should describe how responsibility and ownership of the program would be transferred to the African participants to ensure continued activity and impact. ECA places a priority on programs that include convincing plans for sustainability.

6. Follow-on Activities: The proposal should provide a plan for continued follow-on activity (beyond the ECA grant period), ensuring that ECA-supported programs are not isolated events. Follow-on activities sponsored by the applicant should be clearly outlined.

7. Support of Diversity: The proposed project should demonstrate substantive support of the Bureau's policy on diversity. Program content (training sessions, resource materials, follow-on activities) and program administration (participant selection process, orientation, evaluation, resource/staff persons) should address diversity in a comprehensive and innovative manner. Applicants should refer to ECA's Diversity,Freedom and Democracy Guidelines on page four of the Proposal Submission Instructions (PSI).

8. Multiplier Effect/Impact: Programs should be designed so that the sharing of information and training that occurs during the grant period will continue long after the grant period is over. Proven methods of sustainability include, but are not limited to: A model TOT program that would include initial training, practice presentation sessions for the African participants, followed by training activities coordinated and implemented by the African participants in their home countries; a commitment to create or support in-country training/resource centers; a curriculum program that would include teacher training, lesson plan development, and cooperation with ministries of education and related education administrators on implementation; development of online communities, professional networks or professional associations; regularly published electronic and/or hard-copy newsletters.

Highly competitive proposals usually have the following characteristics: An active, existing partnership between a U.S. organization and African institution(s); a proven successful track record for conducting program activity; cost-sharing from U.S. and African sources, including donations of air fares, hotel and/or housing costs, ground transportation, interpreters, room rentals, etc.; experienced staff with relevant language ability; a clear, convincing plan outlining exactly how the program components will be carried out and how permanent results will be accomplished as a result of the grant; and a follow-on plan that extends beyond the Bureau grant period. Please refer to the section on Review Criteria in the RFGP for additional information.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Acting Assistant Secretary for Educational and Cultural Affairs. Final technical authority for assistance awards (grants) resides with the Bureau's Grants Officer.

Authority

Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations * * * and thus to assist in the development of friendly, sympathetic and peaceful relations between the United States and the other countries of the world.” Funding authority for the program cited above is provided through the Fulbright-Hays Act and the Education for Development and Democracy Initiative (EDDI).

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

To Download a Solicitation Package Via Internet

The entire Solicitation Package (includes two documents: the RFGP and the PSI) may be downloaded from the Bureau's website at http://exchanges.state.gov/education/RFGPs or the division's website at http://exchanges.state.gov/education/citizens/africa. Please read all information before downloading.

For Further Information, Contact

The Office of Citizen Exchanges, ECA/PE/C/NEAAF, Room 220, U.S. Department of State, 301 4th Street, S.W., Washington, DC 20547, attention: Orna Blum, telephone: (202) 260-2754 and fax number: (202) 619-4350, Internet address: oblum@pd.state.gov.

Please read the complete Federal Register announcement before sending inquiries or submitting proposals. Once the RFGP deadline has passed, Bureau staff may not discuss this competition with applicants until the proposal review process has been completed.

Deadline for Proposals

All proposal copies must be received at the Bureau of Educational and Cultural Affairs by 5 p.m. Washington, D.C. time on Friday, September 7, 2001. Faxed documents will not be accepted at any time. Documents postmarked the due date but received on a later date will not be accepted. Each applicant must ensure that the proposals are received by the above deadline.

Applicants must follow all instructions given in the Application Package. The applicant's original proposal and ten (10) copies (unbound) should be sent to: U.S. Department of State, SA-44, Bureau of Educational and Cultural Affairs, Ref.: ECA/PE/C/NEA-AF-02-08, Program Management, ECA/EX/PM, Room 534, 301 4th Street, SW., Washington, DC 20547.

Applicants must also submit the “Executive Summary” and “Proposal Narrative” sections of the proposal on a 3.5″ diskette, formatted for DOS. These documents must be provided in ASCII text (DOS) format or Microsoft Word format. The Bureau will transmit these files electronically to the Public Affairs section at the US Embassy for its review, with the goal of reducing the time it takes to get embassy comments for the Bureau's grants review process.

Notification

Final awards cannot be made until funds have been appropriated by Congress, allocated and committed through internal U.S. Department of State procedures.

Dated: June 22, 2001.
Helena Kane Finn,
Acting Assistant Secretary for Educational and Cultural Affairs,Department of State.

[FR Doc. 01-16704 Filed 7-3-01; 8:45 am]

BILLING CODE 4710-05-P